DEPARTMENT OF ENERGY

Federal Energy Regulatory Commission

[Docket No. CP01-143-000]

Natural Gas Pipeline Company of America; Notice of Request Under Blanket Authorization

April 12, 2001.

Take notice that on April 5, 2001, Natural Gas Pipeline Company of America (Natural), 747 East 22nd Street, Lombard, Illinois 60148, filed in Docket No. CP01-143-000 a request pursuant to Sections 157.205 and 157.211 of the Commission's Regulations (18 CFR 157.205 and 157.211) under the Natural Gas Act (NGA) for authorization to construct and operate delivery point facilities for service to an end-user in Adair County, Iowa, under Natural's blanket certificate issued in Docket No. CP82-402-000, pursuant to Section 7 of the NGA, all as more fully set forth in the application which is on file with the Commission and open to public inspection. This filing may be viewed on the web at http://www.ferc.fed.us/online/htm (call 202-208-2222 for assistance).

Natural requests authorization to construct and operate delivery point facilities, consisting of a 6-inch tap and 6-inch meter, to serve Central Iowa Power Cooperative (CIPCO), which requires the gas for its power plant in Union County, Iowa. It is stated that Natural will use the facilities to transport up to 28,992 MMBtu equivalent of natural gas per day on a firm basis pursuant to Section 284.223 of the Commission's regulations. Natural estimates the cost of the facilities at $310,000. Natural states that Cipco will construct a 4.6 mile lateral to connect Natural's facilities to its power plant. It is explained that the power plant currently receives gas service from IES Utilities Inc., a local distribution company. It is asserted that Natural has sufficient capacity to render the proposed service without detriment or disadvantage to its other existing customers. It is further asserted that the proposal will have so significant impact on Natural's peak day and annual deliveries.

Any questions regarding the application may be directed to James J. McElligott, Vice President, at (630) 691-3525, Natural Gas Pipeline Company of America, 747 East 22nd Street, Lombard, Illinois 60148.

Any person or the Commission's staff may, within 45 days after issuance of the instant notice by the Commission, file pursuant to Rule 214 of the Commission's Procedural Rules (18 CFR 385.214) a motion to intervene or notice of intervention and pursuant to Section 157.205 of the Regulations under the NGA (18 CFR 157.205) a protest to the request. If no protest is filed within the time allowed therefor, the proposed activity shall be deemed to be authorized effective the day after the time allowed for filing a protest. If a protest is filed and not withdrawn within 30 days after the time allowed for filing a protest, the instant request shall be treated as an application for authorization pursuant to Section 7 of the NGA. Comments, protests and interventions may be filed electronically in lieu of paper. See 18 CFR 385.2001(a)(1)(iii) and the instructions on the Commission's website at http://ferc.fed.us/efi/doorbell.htm.

David P. Boergers,
Secretary.

[FR Doc. 01-9556 Filed 4-17-01; 8:45 am]

BILLING CODE 6717-01-M